DEPARTMENT OF HOUSING AND URBAN DEVELOPMENT

[Docket No. FR-4561-N-39]

Notice of Submission of Proposed Information Collection to OMB; Reporting Requirements Associated With 24 CFR 203.508b and 24 CFR 235.1001

AGENCY: Office of the Chief Information Officer, HUD.

ACTION: Notice.

SUMMARY: The proposed information collection requirement described below has been submitted to the Office of Management and Budget (OMB) for review, as required by the Paperwork Reduction Act. The Department is soliciting public comments on the subject proposal.

DATES: Comments Due Date: July 27, 2000.

ADDRESSES: Interested persons are invited to submit comments regarding this proposal. Comments should refer to the proposal by name and/or OMB approval number (2502-0235) and should be sent to: Joseph F. Lackey, Jr., OMB Desk Officer, Office of Management and Budget, Room 10235, New Executive Office Building, Washington, DC 20503.

FOR FURTHER INFORMATION CONTACT: Wayne Eddins, Reports Management Officer, Q, Department of Housing and Urban Development, 451 Seventh Street, SW., Washington, DC 20410; e-mail Wayne_Eddins@HUD.gov; telephone (202) 708-2374. This is not a toll-free number. Copies of the proposed forms and other available documents submitted to OMB may be obtained from Mr. Eddins.

SUPPLEMENTARY INFORMATION: The Department has submitted the proposal for the collection of information, as described below, to OMB or review, as required by the Paperwork Reduction Act (44 U.S.C. chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This notice also lists the following information.

Title of Proposal: Reporting Requirements Associated with 24 CFR 203.508b and 24 CFR 235.1001—Providing Information.

OMB Approval Number: 2502-0235.

Form Numbers: None.

Description of the Need for the Information and Its Proposed Use: Mortgagees must inform mortgagors of the system available for obtaining answers to loan inquiries and remind mortgagors, at least once annually, of the system by written statement. Mortgagees must provide homeowners with the amount of interest paid and taxes disbursed from the escrow account for income tax purposes. On Section 235 mortgages, lenders must provide the interest accounting in such a way as to allow the homeowner to easily deduct the amount of subsidy HUD paid on behalf of the homeowner.

Respondents: Individuals or Households, Not-For-Profit Institutions.

Frequency of Submission: Reporting third party disclosure annually.

Reporting Burden | Number of respondents | × | Frequency of response | × | Hours per response | = | Burden hours
| 12,000 |  | 1 |  | 0.25 |  | 3,000
Total Estimated Burden Hours: 3,000.

Status: Reinstatement, without change.

Authority: Section 3507 of the Paperwork Reduction Act of 1995, 44 U.S.C. 35, as amended.

Dated: July 21, 2000.
Donna L. Eden,
Director, Office of Investment Strategies and Management.

[FR Doc. 00-16190 Filed 6-26-00; 8:45 am]

BILLING CODE 4210-01-M